DEPARTMENT OF THE TREASURY

Bureau of Alcohol, Tobacco and Firearms

27 CFR Part 9

[T.D. ATF-468; Re: Notice No. 910]

RIN: 1512-AAO7

Realignment of the Alexander Valley and Dry Creek Valley Viticultural Areas (2000R-298P)

AGENCY: Bureau of Alcohol, Tobacco and Firearms (ATF), Treasury.

ACTION: Treasury decision, final rule.

SUMMARY: This Treasury decision realigns a boundary line between the Alexander Valley and the Dry Creek Valley viticultural areas, located in northern Sonoma County, California. This realignment is a result of a petition submitted by E. & J. Gallo Winery.

EFFECTIVE DATE: Effective December 3, 2001.

FOR FURTHER INFORMATION CONTACT: Nancy Sutton, Specialist, Regulations Division (San Francisco, CA), Bureau of Alcohol, Tobacco and Firearms, 221 Main Street, 11th Floor, San Francisco, CA (415) 947-5192.

SUPPLEMENTARY INFORMATION:

1. Background on Viticultural Areas

What Is ATF's Authority To Establish a Viticultural Area?

ATF published Treasury Decision ATF-53 (43 FR 37672, 54624) on August 23, 1978. This decision revised the regulations in 27 CFR part 4, Labeling and Advertising of Wine, to allow the establishment of definitive viticultural areas. The regulations allow the name of an approved viticultural area to be used as an appellation of origin on wine labels and in wine advertisements. On October 2, 1979, ATF published Treasury Decision ATF-60 (44 FR 56692), which added 27 CFR part 9, American Viticultural Areas, for the listing of approved American viticultural areas, the names of which may be used as appellations of origin.

What Is the Definition of an American Viticultural Area?

An American viticultural area is a delimited grape-growing region distinguishable by geographic features. Viticultural features such as soil, climate, elevation, topography, etc., distinguish it from surrounding areas.

What Is Required To Establish a Viticultural Area?

Any interested person may petition ATF to establish a grape-growing region as a viticultural area. The petition should include:

• Evidence that the name of the proposed viticultural area is locally and/or nationally known as referring to the area specified in the petition;

• Historical or current evidence that the boundaries of the viticultural area are as specified in the petition;

• Evidence relating to the geographical characteristics (climate, soil, elevation, physical features, etc.) that distinguish the viticultural features of the proposed area from surrounding areas;

• A description of the specific boundaries of the viticultural area, based on features that can be found on United States Geological Survey (U.S.G.S.) maps of the largest applicable scale; and

• A copy (or copies) of the appropriate U.S.G.S. map(s) with the boundaries prominently marked.

2. Rulemaking Proceeding

Realignment of the Alexander Valley and Dry Creek Valley Viticultural Areas Petition

The Bureau of Alcohol, Tobacco and Firearms (ATF) received a petition from E. & J. Gallo Winery proposing the revision and realignment of a common boundary line between the Alexander Valley and the Dry Creek Valley viticultural areas, located in northern Sonoma County, California. This petition proposed realigning approximately 410 acres from the Dry Creek Valley area to the Alexander Valley area. The original petitions for these areas incorporated U.S.G.S. mapping section lines to define the boundary of this realignment area. To re-define the boundary line, the petitioner used geographic and climatic features.

The petitioner indicated that a small section of the boundary between the established Alexander Valley viticultural area, 27 CFR 9.53, and Dry Creek Valley viticultural area, 27 CFR 9.64, should be modified. The petition stated that the original boundary ignored distinctive geographic features, climatic differences and it now divides several vineyards. The original boundary line, in sections 4 and 5 of T.10 N., R.10 W. of the Geyserville Quadrangle, California, Sonoma Co., 7.5 Minute Series (Topographic), 1955, U.S.G.S. map, was defined primarily by the mapping section lines. According to the petitioner, there were no vineyards along this boundary section at the times the boundary line was petitioned and approved, in 1983 for Dry Creek Valley and 1984 for Alexander Valley.

The petitioner provided a Geyserville Quadrangle, California, Sonoma Co., 7.5 Minute Series (Topographic), 1955, U.S.G.S. map as evidence of a significant ridgeline along the proposed boundary line. This ridgeline defines the watershed dividing point between the Dry Creek Valley and Alexander Valley viticultural areas. With the original boundary line, both the Dutcher Creek and Gill Creek watersheds are in the Dry Creek Valley area but drain into different viticultural areas. The Gill Creek watershed, to the east of the ridgeline, drains east and crosses the boundary line into the Alexander Valley area. The Dutcher Creek Planning Watershed, to the west of the ridgeline, drains into Dry Creek, staying in the Dry Creek Valley area. The realignment will put the Gill Creek watershed into the Alexander Valley area, where it drains, and will keep the Dutcher Creek watershed within the Dry Creek Valley area.

The petitioner provided a chart of growing degree days for five vineyards in the Dry Creek Valley and Alexander Valley viticultural areas. This chart indicates that the Dry Creek Valley viticultural area is generally cooler than sites in the Alexander Valley viticultural area. The climate of the realigned area more closely reflects the warmer Alexander Valley than the cooler Dry Creek Valley.

3. Notice of Proposed Rulemaking

A Notice of Proposed Rulemaking, Notice No. 910, was published in the Federal Register on February 5, 2001 (66 FR 8925), requesting comments from all interested persons concerning the realignment of these viticultural areas be received by April 6, 2001. ATF received no comments concerning this proposal.

4. Regulatory Analyses and Notices

Does the Paperwork Reduction Act Apply to This Final Rule?

The provisions of the Paperwork Reduction Act of 1995, 44 U.S.C. chapter 35, and its implementing regulations, 5 CFR part 1320, do not apply to this rule because no requirement to collect information is imposed.

How Does the Regulatory Flexibility Act Apply to This Final Rule?

These regulations will not have a significant economic impact on a substantial number of small entities. ATF does not wish to give the impression that by approving the realignment of a boundary line between the Alexander Valley and Dry Creek Valley viticultural areas it is endorsing wine produced in the area. The realignment of these two viticultural areas merely allows the wineries in these areas to more accurately describe the origin of their wines to consumers, and helps consumers identify the wines they purchase. Thus, any benefit derived from the use and reputation of a viticultural area name is the result of the proprietor's own efforts and consumer acceptance of wines from that area.

The final rule is not expected (1) to have significant secondary, or incidental effects on a substantial number of small entities, or (2) to impose, or otherwise cause a significant increase in the reporting, recordkeeping, or other compliance burdens on a substantial number of small entities. No new requirements are imposed. Accordingly, a regulatory flexibility analysis is not required.

Is This a Significant Regulatory Action as Defined by Executive Order 12866?

It has been determined that this regulation is not a significant regulatory action as defined by Executive Order 12866. Therefore, a regulatory assessment is not required.

5. Drafting Information

The principal author of this document is Nancy Sutton, Regulations Division, Bureau of Alcohol, Tobacco, and Firearms.

List of Subjects in 27 CFR Part 9

Wine.

Authority and Issuance

Title 27, Code of Federal Regulations, part 9, American Viticultural Areas, is amended as follows:

PART 9—AMERICAN VITICULTURAL AREAS

Paragraph 1. The authority citation for part 9 continues to read as follows:

Authority: (27 U.S.C. 205).

Subpart C—Approved American Viticultural Areas

Par. 2. Section 9.53 is amended by revising paragraph (c)(6) and removing and reviewing paragraph (c)(7) as follows:

§ 9.53 Alexander Valley.

* * * * *

(c) Boundaries. * * *

(6) Then southeasterly in a straight line approximately 11,000 feet (closely following the ridge line) to the northwest corner of Section 10, T. 10 N., R.10 W. on the Geyserville Quadrangle map;

(7) [Reserved]

* * * * *

Par. 3. Section 9.64 is amended by revising paragraphs (c) introductory text and (c)(1) to read as follows:

§ 9.64 Dry Creek Valley.

* * * * *

(c) Boundaries. The Dry Creek Valley viticultural area is located in north central Sonoma County, California. From the beginning point, lying at the intersection of latitude line 38 degrees 45 minutes and the northwest corner of Section 5, T. 10 N., R. 10 W. on the “Geyserville Quadrangle” map, the boundary runs—

(1) Southeasterly in a straight line approximately 11,000 feet (closely following the ridge line) to the northeast corner of Section 9, T. 10 N., R. 10 W.;

* * * * *

Signed: July 27, 2001.
Bradley A. Buckles,
Director.
Approved: August 31, 2001.
Timothy E. Skud,
Acting Deputy Assistant Secretary, (Regulatory, Tariff & Trade Enforcement).

[FR Doc. 01-24903 Filed 10-3-01; 8:45 am]

BILLING CODE 4810-31-P